DEPARTMENT OF ENERGY

Federal Energy Regulatory Commission

[Docket No. RP00-389-000]

Cove Point LNG Limited Partnership; Notice of Tariff Filing

July 19, 2000.

Take notice that on July 14, 2000, Cove Point LNG Limited Partnership (Cove Point) tendered for filing as part of its FERC Gas Tariff, Second Revised Volume No. 1, the tariff sheets listed on Appendix A to the filing, with a proposed to be effective June 14, 2000.

Cove Point state that the purpose of the instant filing is to replace Cove Point's existing tariff due to changes made necessary by the purchase of the Cove Point limited partnership by two subsidiaries of The Williams Companies on June 14, 2000. Williams Cove Point LNG Company, L.L.C. purchased the 99% limited partnership interest in Cove Point LNG Limited Partnership from Columbia LNG Corporation and Columbia Atlantic Trading Corporation, and Williams Gas Project Company, L.L.C. purchased the 1% general partnership interest in Cove Point LNG Limited Partnership from CLNG Corporation.

Specifically, Second Revised Volume No. 1 of Cove Point's tariff is being filed to (1) correct the title page to include corrected information regarding the person to whom communication concerning the tariff should be sent, (2) change the tariff sheets to reflect the name of the new issuing officer, (3) modify the section related to marketing affiliates to reflect the change of ownership and (4) correct certain typographical errors.

Cove Point states that it is serving copies of the instant filing to the affected customers, State Commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Davis P. Boergers,
Secretary.

[FR Doc. 00-18612 Filed 7-21-00; 8:45 am]

BILLING CODE 6717-01-M